SECURITIES AND EXCHANGE COMMISSION

17 CFR Parts 210 and 240

[Release No. 33-7883, 34-43219; File No. S7-13-00]

Revision of the Commission's Auditor Independence Requirements

AGENCY: Securities and Exchange Commission.

ACTION: Proposed rule; extension of time period to submit materials for public hearing on September 20, 2000; location of hearings.

SUMMARY: The Securities and Exchange Commission is extending the time period by which participants must submit written materials for the public hearing on September 20, 2000, on the proposed rule Revision of the Commission's Auditor Independence Requirements (65 FR 43148 July 12, 2000). On August 10, 2000, the Commission issued a Notice announcing public hearings on September 13, 2000 in New York and September 20, 2000 in Washington, DC (65 FR 49954 8/16/2000). The original submission date for materials was September 5, 2000. The new submission date for those testifying on September 20, 2000 is September 12, 2000.

DATES: Written submissions for the September 20, 2000 hearing are due on September 12, 2000.

ADDRESSES: Oral statements or summaries of testimony, and other written testimony or comments, should be mailed to Jonathan G. Katz, Secretary, Securities and Exchange Commission, 450 Fifth Street, NW., Washington, DC 20459-0609 or filed electronically at the following e-mail address: rule-comments@sec.gov. All oral statements or summaries of testimony, and other written testimony or comments, should refer to Comment File No. S7-13-00. Electronic submissions should include “Comment File No. S7-13-00” and “Testimony” in the subject line. Copies of all requests and other submissions and transcripts of the hearings will be available for public inspection and copying in the Commission's Public Reference Room at 450 Fifth Street, NW., Washington, DC 20549. Electronically submitted requests and other materials will be posted on the Commission's internet web site (www.sec.gov) following the hearings.

The hearing on September 13 will be held at Pace Downtown Theatre at Pace University, Spruce Street between Park Row and Gold Street, New York, New York (across from City Hall Park). The hearing on September 20 will be held in the William O. Douglas Room at the Commission's headquarters at 450 Fifth Street, NW., Washington, DC 20549.

FOR FURTHER INFORMATION CONTACT: John M. Morrissey, Deputy Chief Accountant, Office of the Chief Accountant, at (202) 942-4400.

Dated: August 29, 2000.
By the Commission.
Jonathan G. Katz,
Secretary.

[FR Doc. 00-22716 Filed 9-6-00; 8:45 am]

BILLING CODE 8010-01-M